DEPARTMENT OF ENERGY

Federal Energy Regulatory Commission

Combined Notice of Filings #1

Take notice that the Commission received the following electric corporate filings:

Docket Numbers: EC23-109-000.

Applicants: Grover Hill Wind, LLC, Appalachian Power Company.

Description: Joint Application for Authorization Under Section 203 of the Federal Power Act of Grover Hill Wind, LLC et al.

Filed Date: 7/14/23.

Accession Number: 20230714-5234.

Comment Date: 5 p.m. ET 9/12/23.

Docket Numbers: EC23-110-000.

Applicants: 2018 ESA Project Company, LLC, AL Fuel Cell Acquirer, LLC.

Description: Joint Application for Authorization Under Section 203 of the Federal Power Act of 2018 ESA Project Company, LLC, et al.

Filed Date: 7/18/23.

Accession Number: 20230718-5194.

Comment Date: 5 p.m. ET 8/8/23.

Take notice that the Commission received the following exempt wholesale generator filings:

Docket Numbers: EG23-232-000.

Applicants: Great Cove Solar LLC.

Description: Great Cove Solar LLC submits Notice of Self-Certification of Exempt Wholesale Generator Status.

Filed Date: 7/19/23.

Accession Number: 20230719-5061.

Comment Date: 5 p.m. ET 8/9/23.

Docket Numbers: EG23-233-000.

Applicants: Great Cove Solar II LLC.

Description: Great Cove Solar II LLC submits Notice of Self-Certification of Exempt Wholesale Generator Status.

Filed Date: 7/19/23.

Accession Number: 20230719-5062.

Comment Date: 5 p.m. ET 8/9/23.

Docket Numbers: EG23-234-000.

Applicants: Tunica Windpower LLC.

Description: Tunica Windpower LLC submits Notice of Self-Certification of Exempt Wholesale Generator Status.

Filed Date: 7/19/23.

Accession Number: 20230719-5063.

Comment Date: 5 p.m. ET 8/9/23.

Docket Numbers: EG23-235-000.

Applicants: Platteview Solar, LLC.

Description: Platteview Solar, LLC submits Notice of Self-Certification of Exempt Wholesale Generator Status.

Filed Date: 7/19/23.

Accession Number: 20230719-5064.

Comment Date: 5 p.m. ET 8/9/23.

Docket Numbers: EG23-236-000.

Applicants: Cavalier Solar A2, LLC.

Description: Cavalier Solar A2, LLC submits Notice of Self-Certification of Exempt Wholesale Generator Status.

Filed Date: 7/19/23.

Accession Number: 20230719-5092.

Comment Date: 5 p.m. ET 8/9/23.

Docket Numbers: EG23-237-000.

Applicants: McFarland Solar B, LLC.

Description: McFarland Solar B, LLC submits Notice of Self-Certification of Exempt Wholesale Generator Status.

Filed Date: 7/19/23.

Accession Number: 20230719-5096.

Comment Date: 5 p.m. ET 8/9/23.

Take notice that the Commission received the following Complaints and Compliance filings in EL Dockets:

Docket Numbers: EL23-83-000; QF11-424-010.

Applicants: Dana Power LLC, Gregory and Beverly Swecker v. Midland Power Cooperative.

Description: Complaint of Gregory and Beverly Swecker v. Midland Power Cooperative.

Filed Date: 7/14/23.

Accession Number: 20230714-5237.

Comment Date: 5 p.m. ET 8/3/23.

Take notice that the Commission received the following electric rate filings:

Docket Numbers: ER23-1955-000.

Applicants: Earthrise Lincoln Interconnection, LLC.

Description: Report Filing: Supplement to Filing of Shared Facilities and Use Agreements to be effective N/A.

Filed Date: 6/23/23.

Accession Number: 20230623-5034.

Comment Date: 5 p.m. ET 8/2/23.

Docket Numbers: ER23-1959-000.

Applicants: Earthrise Crete Interconnection, LLC.

Description: Report Filing: Supplement to Filing of Shared Facilities and Use Agreements to be effective N/A.

Filed Date: 6/23/23.

Accession Number: 20230623-5035.

Comment Date: 5 p.m. ET 8/2/23.

Docket Numbers: ER23-2427-000.

Applicants: American Transmission Systems, Incorporated, PJM Interconnection, L.L.C.

Description: § 205(d) Rate Filing: American Transmission Systems, Incorporated submits tariff filing per 35.13(a)(2)(iii: ATSI submits Amended Operating and Interconnection Agreement, SA No. 2852 to be effective 9/18/2023.

Filed Date: 7/18/23.

Accession Number: 20230718-5128.

Comment Date: 5 p.m. ET 8/8/23.

Docket Numbers: ER23-2428-000.

Applicants: Bucksport Generation LLC.

Description: § 205(d) Rate Filing: Bucksport Generation LLC, IROL-CIP Rate Schedule to be effective 9/16/2023.

Filed Date: 7/18/23.

Accession Number: 20230718-5129.

Comment Date: 5 p.m. ET 8/8/23.

Docket Numbers: ER23-2429-000.

Applicants: Stonepeak Kestrel Energy Marketing LLC.

Description: § 205(d) Rate Filing: IROL-CIP Rate Schedule to be effective 9/16/2023.

Filed Date: 7/18/23.

Accession Number: 20230718-5142.

Comment Date: 5 p.m. ET 8/8/23.

Docket Numbers: ER23-2430-000.

Applicants: Estrella Solar, LLC.

Description: § 205(d) Rate Filing: Master Interconnection Services Agreement Certificate of Concurrence to be effective 7/20/2023.

Filed Date: 7/19/23.

Accession Number: 20230719-5054.

Comment Date: 5 p.m. ET 8/9/23.

Docket Numbers: ER23-2431-000.

Applicants: Raceway Solar 1, LLC.

Description: § 205(d) Rate Filing: Master Interconnection Services Agreement Certificate of Concurrence to be effective 7/20/2023.

Filed Date: 7/19/23.

Accession Number: 20230719-5055.

Comment Date: 5 p.m. ET 8/9/23.

Docket Numbers: ER23-2432-000.

Applicants: Misenheimer Solar LLC.

Description: Baseline eTariff Filing: Market-Based Rate Application to be effective 9/18/2023.

Filed Date: 7/19/23.

Accession Number: 20230719-5069.

Comment Date: 5 p.m. ET 8/9/23.

Docket Numbers: ER23-2433-000.

Applicants: Estrella Solar, LLC.

Description: § 205(d) Rate Filing: LGIA Co-Tenancy Agreement Certificate of Concurrence to be effective 7/20/2023.

Filed Date: 7/19/23.

Accession Number: 20230719-5077.

Comment Date: 5 p.m. ET 8/9/23.

Docket Numbers: ER23-2434-000.

Applicants: Raceway Solar 1, LLC.

Description: § 205(d) Rate Filing: LGIA Co-Tenancy Agreement Certificate of Concurrence to be effective 7/20/2023.

Filed Date: 7/19/23.

Accession Number: 20230719-5079.

Comment Date: 5 p.m. ET 8/9/23.

Docket Numbers: ER23-2435-000.

Applicants: ETEM Remediation Two LLC.

Description: Baseline eTariff Filing: Notice of Succession to be effective 12/31/9998.

Filed Date: 7/19/23.

Accession Number: 20230719-5081.

Comment Date: 5 p.m. ET 8/9/23.

Docket Numbers: ER23-2436-000.

Applicants: Energy Harbor LLC.

Description: Tariff Amendment: Notice of Cancellation of Reactive Service Rate Schedule FERC No. 2 to be effective 12/31/9998.

Filed Date: 7/19/23.

Accession Number: 20230719-5102.

Comment Date: 5 p.m. ET 8/9/23.

Docket Numbers: ER23-2437-000.

Applicants: Energy Harbor LLC.

Description: Energy Harbor LLC requests a one-time prospective waiver of the 90-day prior notice requirement set forth in Schedule 2.

Filed Date: 7/19/23.

Accession Number: 20230719-5150.

Comment Date: 5 p.m. ET 8/9/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 19, 2023.
Debbie-Anne A. Reese,
Deputy Secretary.

[FR Doc. 2023-15706 Filed 7-24-23; 8:45 am]

BILLING CODE 6717-01-P